DEPARTMENT OF THE INTERIOR

Fish and Wildlife Service

[FWS-R5-ES-2013-0132; FXHC11220500000]

Preparation of an Environmental Assessment in Consideration of Issuance of a Bald Eagle Programmatic Take Permit and Implementation of the Associated Eagle Conservation Plan for the Great Bay Wind Energy Project, Somerset County, Maryland

AGENCY: Fish and Wildlife Service, Interior.

ACTION: Notice of intent, notice of scoping meeting, and request for comments.

SUMMARY: We, the U.S. Fish and Wildlife Service (Service), intend to prepare an environmental assessment (EA) to address the potential impacts of the issuance of a programmatic eagle take permit (permit) pursuant to the Bald and Golden Eagle Protection Act (BGEPA). The permit would authorize the taking of bald eagles associated with the construction and operation of the proposed Great Bay Wind Energy Project (Project) and implementation of an associated eagle conservation plan (ECP). The issuance of an eagle take permit is a Federal action subject to analysis under the National Environmental Policy Act of 1969 (NEPA). We provide this notice to announce the initiation of a public scoping period during which we invite other agencies and the public to submit written comments that provide suggestions and information on the scope of issues and alternatives to be addressed in the EA. We also announce that we will hold a public meeting where oral and written comments will also be accepted.

DATES: Written comments must be received on or before February 3, 2014. We will hold one public scoping meeting; see Public Meeting under SUPPLEMENTARY INFORMATION for the date, time, and location.

ADDRESSES: Comments concerning the issuance of the programmatic eagle take permit and the preparation of the associated EA should be identified as such, and may be submitted by one of the following methods:

• http://www.regulations.gov/.

• U.S. Mail: U.S. Fish and Wildlife Service, Attn: Sarah Nystrom, Ecological Services, 300 Westgate Center Drive, Hadley, MA 01035.

• In-Person Drop-off, Viewing, or Pickup: Written comments will be accepted at the public meeting on Wednesday, January 15, 2014, or can be dropped off during regular business hours at the address above.

FOR FURTHER INFORMATION CONTACT: Ms. Sarah Nystrom, Regional Bald and Golden Eagle Coordinator, U.S. Fish and Wildlife Service, 300 Westgate Center Drive, Hadley, MA 01035; 413-253-8592 (telephone); Sarah_Nystrom@fws.gov (electronic mail). If you use a telecommunications device for the deaf, please call the Federal Information Relay Service at 1-800-877-8339.

SUPPLEMENTARY INFORMATION:

Introduction

We publish this notice under NEPA, as amended (42 U.S.C. 4321 et seq.), and its implementing regulations (40 CFR 1506.6), as well as in compliance with BGEPA (16 U.S.C. 668-688d).

Great Bay Wind I, LLC (Applicant), a subsidiary of Lavaca Wind, LLC which is an affiliate of Pioneer Green Energy, LLC, has applied for a programmatic eagle take permit for the taking of bald eagles (Haliaeetus leucocephalus) associated with the Project. We intend to gather the information necessary to prepare a draft EA to evaluate the impacts of, and alternatives to, the proposed issuance of a permit under BGEPA to the Applicant for the construction and operation of the Project and implementation of an associated ECP.

The Applicant would own, construct, and operate the Project. The Project would be located on 12,046 acres (4,875 hectares) of private agricultural lands in Somerset County, Maryland, and would consist of 25 wind turbine generators, access roads, an electrical collection system, an operations and maintenance building, a switchyard, and a substation. The Project would generate up to 90 megawatts and is anticipated to have a lifespan of up to 30 years.

The Applicant will develop an ECP in coordination with the Service as part of its application for a permit. The objectives of the ECP will be to describe the environmental conditions in the Project area, summarize the results of eagle studies to date, develop an assessment of impacts to bald eagles, develop avoidance and minimization elements, and describe compensatory mitigation measures for unavoidable impacts that might result from site selection, construction, and operation of the project.

Environmental Assessment

The NEPA (42 U.S.C. 4321 et seq.) requires that Federal agencies conduct an environmental analysis of their proposed actions to determine if the actions may significantly affect the human environment. The proposed action presented in the draft EA will be compared to a reasonable range of alternatives, including a no-action alternative. The no-action alternative would represent estimated future conditions without the application for, or issuance of, a permit.

The proposed action for the EA is the Service's decision whether to issue a permit pursuant to BGEPA (50 CFR 22.26) for the take of bald eagles associated with, but not the purpose of, the construction and operation of the Project and implementation of the associated ECP. The BGEPA defines “take” as “to pursue, shoot, shoot at, poison, wound, kill, capture, trap, collect, destroy, molest, or disturb individuals, their nests and eggs” (50 CFR 22.3). “Disturb” means to agitate or bother an eagle to a degree that causes or is likely to cause (1) injury to an eagle; (2) a decrease in its productivity, by substantially interfering with normal breeding, feeding, or sheltering behavior; or (3) nest abandonment, by substantially interfering with normal breeding, feeding, or sheltering behavior (50 CFR 22.3).

Issuance of an eagle take permit is a Federal action subject to analysis of potential environmental impacts under NEPA. The Service will prepare an EA to help decide whether to issue a permit authorizing take of bald eagles associated with the Project. Upon review of the EA, the Service will conclude the EA process with one of the following: (1) A finding of no significant impact; (2) a notice of intent to prepare an environmental impact statement; or (3) a result that no further action is taken on the proposal.

Environmental Review and Next Steps

The Service will conduct an environmental review to analyze the proposed action, along with other alternatives and the associated impacts of each. The draft EA will provide the basis for the impact evaluation for each potentially affected resource and the range of alternatives to be addressed. The draft EA is expected to provide biological descriptions of the affected species and habitats, as well as the effects of the alternatives on other resources, such as vegetation, wetlands, wildlife, geology and soils, air quality, water resources, water quality, cultural resources, land use, recreation, visual resources, local economy, and environmental justice.

Following completion of the environmental review, the Service will publish a notice of availability and a request for comment on the draft EA. The draft EA is expected to be completed and available to the public in 2014.

Public Meeting

The primary purpose of the scoping process is for the public to assist the Service in developing a draft EA by identifying important issues and alternatives related to permit issuance, to provide the public with a general understanding of the background of the eagle permit process and activities it would cover, and an overview of the NEPA process.

The scoping meeting will be held on January 15, 2014, from 6 to 8 p.m. at the J.M. Tawes Technology & Career Center, 7982 Crisfield Highway, Westover, MD 21871. The primary purpose of the meeting and associated public comment period is to solicit suggestions and information on the scope of issues and alternatives for the Service to consider when drafting the EA. The meeting format will consist of an open house prior to, and directly following, the formal scoping meeting. The open house format will provide an opportunity to learn about the Project and the proposed action. The initial open house will be followed by a formal presentation of the proposed action, summary of the NEPA process, and an opportunity for the public to ask questions and provide oral comments. Both oral and written comments will be accepted at the meeting. Comments can also be submitted by methods listed in the ADDRESSES section. Once the draft EA is complete and made available for review, there will be an additional opportunity for public comment on the content of that document through a public meeting and comment period.

Public Comments

We request data, comments, new information, and suggestions from the public, other concerned governmental agencies, the scientific community, industry and any other interested party on this notice. We will consider these comments in developing the draft EA. We particularly seek comments on the following:

1. The direct, indirect, and cumulative effects that implementation of any reasonable alternative could have on bald eagles, other wildlife species, and their habitats;

2. Other reasonable alternatives (in addition to permit issuance and no-action), for consideration and their associated effects;

3. Relevant biological data and additional information concerning bald eagles;

4. Current or planned activities in the Project area and their possible impacts on bald eagles;

5. The presence of archaeological sites, buildings and structures, historic events, sacred and traditional areas, and other historic preservation concerns, which are required to be considered in project planning by the National Historic Preservation Act; and

6. Any other environmental issues that should be considered with regard to the proposed Project and permit action.

Comments and materials we receive, as well as supporting documentation we use in preparing the EA, will be available for public inspection by appointment, during normal business hours, at our office (see FOR FURTHER INFORMATION CONTACT).

Public Availability of Comments

Written comments we receive become part of the public record associated with this action. Before including your address, telephone number, electronic mail address, or other personal identifying information in your comments, you should be aware that your entire comment—including your personal identifying information—may be made publicly available at any time. While you can ask us in your comment to withhold your personal identifying information from public review, we cannot guarantee that we will be able to do so.

Meeting Location Accommodations

Please note that the meeting location is accessible to wheelchair users. If you require additional accommodations, please notify us at least 1 week in advance of the meeting.

Authority

We provide this notice under NEPA regulations (40 CFR 1501.7 and 1508.22). The intent of the notice is to enable us to obtain suggestions and additional information from other agencies and the public on the scope of issues to be considered.

Dated: December 11, 2013.
Martin Miller,
Acting Assistant Regional Director, Ecological Services, Northeast Region.

[FR Doc. 2013-31394 Filed 12-31-13; 8:45 am]

BILLING CODE 4510-55-P